OFFICE OF PERSONNEL MANAGEMENT

Submission for Review: Revision of an Existing Information Collection, USAJOBS

AGENCY: U.S. Office of Personnel Management.

ACTION: 60-Day Notice and request for comments.

SUMMARY: The U.S. Office of Personnel Management (OPM) offers the general public and other Federal agencies the opportunity to comment on a revised information collection request (ICR) 3206-0219, USAJOBS. As required by the Paperwork Reduction Act of 1995, (Pub. L. 104-13, 44 U.S.C. chapter 35) as amended by the Clinger-Cohen Act (Pub. L. 104-106), OPM is soliciting comments for this collection. In particular, we invite comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until August 22, 2011. This process is conducted in accordance with 5 CFR 1320.1.

ADDRESSES: Interested persons are invited to submit written comments on the proposed information collection to the U.S. Office of Personnel Management, Employment Services, USAJOBS, 1900 E Street, NW., Washington, DC 20415, Attention: Patricia Stevens, or send them via electronic mail to patricia.stevens@opm.gov.

FOR FURTHER INFORMATION CONTACT: A copy of this ICR, with applicable supporting documentation, may be obtained by contacting the U.S. Office of Personnel Management, Employment Services, USAJOBS, 1900 E Street, NW., Washington, DC 20415, Attention: Patricia Stevens, or by sending a request via electronic mail to patricia.stevens@opm.gov.

SUPPLEMENTARY INFORMATION: USAJOBS is the official Federal Government source for Federal jobs and employment information. The Applicant Profile and Resume Builder are two components of the USAJOBS application system. USAJOBS reflects the minimal critical elements collected across the Federal Government to assess an applicant's qualifications for Federal jobs under the authority of sections 1104, 1302, 3301, 3304, 3320, 3361, 3393, and 3394 of title 5, United States Code. We are revising the Information Collection at this time, in part, to permit the migration of USAJOBS to a new platform. In addition, this revision proposes to:

(A.) Discontinue the use of the Application for Federal Employment Optional Form 612. This action is being taken to facilitate a more seamless employment application process for both Federal agencies and job seekers, consistent with the goals of Federal hiring reform.

(B.) Revise the collection of Demographic Information on Applicants by removing the sourcing question “How did you learn about this position?” along with the pre-populated answer choices provided for this question.

(C.) Add basic eligibility questions to the applicant profile as well as optional questions to the Applicant Profile in USAJOBS that will allow applicants to self-identify (subject to subsequent verification by the appointing agency) as eligible for certain special hiring authorities. This is expected to streamline some hiring actions by allowing agencies to search for resumes of applicants who have volunteered information about their eligibility under special hiring authorities. Information volunteered by applicants about their potential eligibility under one or more special hiring authorities will be stored in USAJOBS and will only become visible to agencies that are considering filling a job using a special hiring authority. In that case, the hiring agency will be able to search USAJOBS for potential applicants who have chosen to indicate that they believe they are eligible to be selected under the special authority the agency seeks to use. The special hiring authorities are as follows:

1. Employment of a disabled veteran who has a compensable service-connected disability of 30 percent or more

5 CFR 316.402(b)(4) Temporary Appointment,

5 CFR 316.302(b)(4) Term Appointment.

2. Military Spouse—Executive Order 13473, Noncompetitive Appointing Authority for Certain Military Spouses

5 CFR 315.612.

Non-competitive appointment of certain former overseas military spouse employees

5 CFR 315.608.

3. Schedule “A”—Excepted Service—Appointment of Persons with Disabilities

5 CFR 213.3102(u).

4. Veterans Employment Opportunities Act (VEOA)

5 CFR 315.611.

5. Veterans Recruitment Appointment (VRA)

5 CFR 307,

5 CFR 316.302(b)(2) Term Appointment,

5 CFR 316.402(b)(2) Temporary Appointment.

6. Employment of disabled veterans who completed a training course under Chapter 31 of title 38 United States Code

5 CFR 315.604.

Applicants who do not choose to use this opportunity to volunteer information about their eligibility under a special hiring authority may still choose to apply for jobs, as they are announced, under any of these special hiring authorities for which they are eligible. If applicants volunteer to provide information through the Web site about the special hiring authorities for which they believe they are eligible, then agencies that are searching for potential applicants to hire under one of these authorities may be able to locate their resume through USAJOBS and invite them to apply. Otherwise, this information will be retained in the USAJOBS database and not disclosed. We estimate it will take approximately 38 minutes to initially complete the Resume Builder, depending on the amount of information the applicant wishes to include, and approximately five minutes to initially complete the Applicant Profile. We estimate over 3,500,000 new USAJOBS accounts will be submitted annually. The total annual estimated burden is 2,508,333 hours.

U.S. Office of Personnel Management.
John Berry,
Director.

[FR Doc. 2011-15595 Filed 6-21-11; 8:45 am]

BILLING CODE 6325-38-P